DEPARTMENT OF LABOR

Employment and Training Administration

[TA-W-62,902]

Esselte Corporation, a Subsidiary of Esselte Holdongs, Inc.; Including On-Site Leased Workers From People Link Staffing and Manpower, Kankakee, IL; Notice of Termination of Investigation

Pursuant to Section 221 of the Trade Act of 1974, as amended, an investigation was initiated on April 18, 2007 in response to a petition filed by a company official on behalf of workers of Esselte Corporation, a subsidiary of Esselte Holdings, Inc., Kankakee, Illinois. The workers at the subject firm produce portfolios and expanding jackets.

The subject firm leased workers from People Link Staffing and Manpower to work on-site to produce portfolios and expanding jackets.

The petitioning group of workers is covered by an active certification, (TA-W-61,091) which expires on April 20, 2009. Consequently, further investigation in this case would serve no purpose, and this case has been terminated.

Signed at Washington, DC, this 31st day of March 2008.
Elliott S. Kushner,
Certifying Officer, Division of Trade Adjustment Assistance.

[FR Doc. E8-7739 Filed 4-10-08; 8:45 am]

BILLING CODE 4510-FN-P